DEPARTMENT OF COMMERCE

National Oceanic and Atmospheric Administration

Announcement of the Initiation of Public Scoping for the Proposed Designation of the Northwestern Hawaiian Islands National Marine Sanctuary

AGENCY: National Marine Sanctuary Program (NMSP), National Ocean Service (NOS), National Oceanic and Atmospheric Administration (NOAA), Department of Commerce (DOC).

ACTION: Notice.

SUMMARY: On December 4, 2000, Executive Order 13178 established the Northwestern Hawaiian Islands Coral Reef Ecosystem Reserve, pursuant to the National Marine Sanctuaries Amendments Act of 2000. The Reserve extends approximately 1200 nautical miles long and 100 nautical miles wide. Pursuant to this Act and the Executive Order, NOAA initiated the process to designate the Reserve as a national marine sanctuary by issuing a notice of intent on January 19, 2001 (66 FR 5509). This notice announces the beginning of public scoping pursuant to the National Environmental Policy Act.

The public scoping process, including public scoping meetings, is intended to solicit information and comments on the range and significance of issues related to the designation and management of a Northwestern Hawaiian Islands National Marine Sanctuary. The results of this scoping process will assist NOAA in formulating alternatives for a draft management plan and draft environmental impact statement for the proposed designation. A separate notice containing times, dates, and locations for scoping meetings will be published in the Federal Register (and in various local media throughout Hawaii) at a later date, at least fifteen days before the first scoping meeting.

DATES AND ADDRESSES: The public scoping process will start on March 18, 2002, and end on Friday, May 3, 2002. Written comments may be sent to NWHI Coral Reef Ecosystem Reserve, 6700 Kalaniana'ole Highway, #215, Honolulu, Hawaii 96825; faxed to (808) 397-2662; or emailed to nwhi@noaa.gov. Comments will be available for public review at the office address above. Summaries of public comments from initial scoping meetings will be available at hawaiireef.noaa.gov. Scoping meetings are expected to be held in April.

FOR FURTHER INFORMATION CONTACT: 'Aulani Wilhelm, (808) 397-2657, nwhi@noaa.gov.

SUPPLEMENTARY INFORMATION: The National Marine Sanctuaries Act (NMSA), 16 U.S.C. 1431 et seq., authorizes the Secretary of Commerce (Secretary) to designate discrete areas of the marine environment as national marine sanctuaries to protect their special conservation, recreational, ecological, historical, cultural, archaeological, scientific, educational, or esthetic qualities. The NMSA is administered by the National Oceanic and Atmospheric Administration (NOAA) through the National Marine Sanctuary Program (NMSP).

On May 26, 2000, the Secretaries of Commerce and the Interior were directed to develop recommendations, working cooperatively with the State of Hawaii and consulting with the Western Pacific Fishery Management Council, for a new, coordinated management regime to increase protection of the coral reef ecosystem of the Northwestern Hawaiian Islands and provide for sustainable use of the area.

Public visioning sessions were held in Hawaii and in Washington, DC in July and August 2000. Over 430 individuals attended the visioning sessions; over 1,000 written comments were received. The results of the visioning sessions revealed a universally high regard for the NWHI, for a variety of reasons including values of biology, wilderness, culture, commerce/economy, scientific, education, and recreation. Threats that were identified included at-risk species, human intrusions and abuses, future intrusion and abuse, atmospheric and oceanic changes, invasive species, and extractive or invasive research.

In November 2000, the National Marine Sanctuaries Amendments Act of 2000 (Act), Public Law 106-513 was signed into law. Section 6(g) of the Act authorized the President, after consultation with the Governor of the State of Hawaii, to designate any Northwestern Hawaiian Islands coral reef or coral reef ecosystem as a coral reef reserve to be managed by the Secretary of Commerce. On December 4, 2000, Executive Order 13178 was issued establishing the Northwestern Hawaiian Islands Coral Reef Ecosystem Reserve (Reserve), pursuant to the Act. The purpose of the Reserve is to ensure the comprehensive, strong, and lasting protection of the coral reef ecosystem and related marine resource and species of the Northwestern Hawaiian Islands. The Reserve extends approximately 1200 nautical miles long and 100 nautical miles wide. The Reserve is adjacent to and seaward of the seaward boundaries of the State of Hawaii and the Midway Atoll National Wildlife Refuge, and overlays the Hawaiian Islands National Wildlife Refuge to the extent that the Refuge extends beyond the seaward boundaries of the State of Hawaii. The Executive Order contains a number of conservation measures that restrict certain activities throughout the Reserve. As part of the establishment of the Reserve, the Executive Order also created fifteen Reserve Preservation Areas (RPAs) in which all consumptive or extractive uses are prohibited, with limited exceptions.

Subsequent to issuance of Executive Order 13178, a thirty-day public comment period was held. During the comment period, seven public hearings were held throughout the main Hawaiian Islands and in Washington, DC to accept written and oral comments. Approximately 8,400 comments were received and included both original (about 500 letters) and form letter comments from around the country with a wide range of opinions.

After close of the comment period, Executive Order 13196 was issued on January 18, 2001, which revised certain conservation measures and RPAs, and finalized establishment of the Reserve. (Executive Orders 13178 and 13196 will hereafter be referred to as the Executive Order).

The Reserve provides immediate added protection and coordinated management for the NWHI coral reef ecosystem and marine environment pending designation of the Reserve as a national marine sanctuary. The Act directs the Secretary, until the reserve is designated as a National Marine Sanctuary, to manage the Reserve consistent with the purposes and policies of the National Marine Sanctuaries Act (NMSA). The Executive Order directs the Secretary to develop a Reserve Operations Plan (ROP) to govern the management of the Reserve to address priority issues (e.g., marine debris, research and monitoring, education, enforcement). The ROP will govern NOAA's management of the Reserve pending designation of a marine sanctuary and will be incorporated into a long-term sanctuary management plan upon successful completion of the designation process.

The Act and Executive Order require the Secretary to initiate the process to designate the Reserve as a National Marine Sanctuary under the applicable provisions of section 303 and 304 of the NMSA (16 U.S.C. 1433 and 1434). Sections 303 and 304 provide specific procedures and requirements for designating a sanctuary, including requiring the preparation of an environmental impact statement pursuant to the National Environmental Policy Act (NEPA). Designation is an open, public process with numerous opportunities for public input. In designating and managing the sanctuary, the Secretary shall also consider the advice and recommendations of the Reserve/Sanctuary Advisory Council established in March, 2001, pursuant to the Act and Executive Order. As part of the process, NOAA shall, in consultation with the Governor of the State of Hawaii, determine whether State waters should be included as part of the sanctuary.

By this notice, NOAA, on behalf of the Secretary, announces the initiation of scoping for the proposed NWHI sanctuary designation. Scoping is the initial process intended to solicit information and comments on the range and significance of issues related to the designation and management of a Northwestern Hawaiian Islands National Marine Sanctuary. The results of this scoping process will assist NOAA in formulating alternatives for a draft management plan and draft environmental impact statement for the proposed designation.

NOAA encourages the public and interested parties to submit (via mail, e-mail, or fax) comments and to attend public scoping meetings, which will be held in April. Specific dates and locations for scoping meetings will be provided in separate notices at least 15 days before the first scoping meeting.

Authority: 16 U.S.C. Section 1431 et seq., Pub.L. 106-513.

Dated: March 12, 2002.
(Federal Domestic Assistance Catalog Number 11.429 Marine Sanctuary Program)
Jamison S. Hawkins,
Deputy Assistant Administrator for Ocean Services and Coastal Zone Management.

[FR Doc. 02-6470 Filed 3-15-02; 8:45 am]

BILLING CODE 3510-08-P